DEPARTMENT OF TRANSPORTATION

Federal Highway Administration

23 CFR Part 924

[Docket No. FHWA-2023-0045]

RIN 2125-AG07

Highway Safety Improvement Program; Withdrawal

AGENCY: Federal Highway Administration (FHWA), U.S. Department of Transportation (DOT).

ACTION: Notice of proposed rulemaking; withdrawal.

SUMMARY: FHWA withdraws its February 21, 2024, notice of proposed rulemaking (NPRM), which proposed to update FHWA's Highway Safety Improvement Program (HSIP) regulations. FHWA will proceed to formally withdraw the proposed rule from FHWA's upcoming Spring 2025 Unified Agenda of Regulatory and Deregulatory Actions (“Unified Agenda”).

DATES: The NPRM “Highway Safety Improvement Program,” Regulation Identifier Number (RIN 2125-AG07), published February 21, 2024 (89 FR 13000), is withdrawn as of May 30, 2025.

ADDRESSES: Federal Highway Administration, 1200 New Jersey Avenue SE, Washington, DC 20590. Office hours are from 8:00 a.m. to 4:30 p.m., E.T., Monday through Friday, except Federal holidays.

FOR FURTHER INFORMATION CONTACT: Ms. Karen Scurry, Office of Safety, (202) 897-7168, karen.scurry@dot.gov; or Mr. David Serody, Office of the Chief Counsel, (202) 366-4241, david.serody@dot.gov.

SUPPLEMENTARY INFORMATION:

Electronic Access and Filing

This document, the 2024 NPRM, and all comments received may be viewed online through the Federal eRulemaking portal at www.regulations.gov. The website is available 24 hours each day, 365 days each year. An electronic copy of this document may also be downloaded by accessing the Office of the Federal Register's home page at: www.federalregister.gov.

Background

On February 21, 2024, at 89 FR 13000, FHWA issued an NPRM proposing to update the HSIP regulations at 23 CFR part 924 to address provisions in the Infrastructure Investment and Jobs Act (Pub. L. 117-58) and to reflect then-current priorities and state-of-practice.

Consistent with President Trump's commitment to ending unlawful, unnecessary, and onerous regulations, FHWA is reviewing its existing regulations and ongoing regulatory activities for alignment with law and Administration priorities. FHWA is withdrawing this NPRM because further rulemaking action with respect to the NPRM does not align with agency needs, priorities, and objectives. FHWA appreciates the comments received and will continue to consider the best means of addressing some or all of the issues covered by the NPRM and the scope of any agency actions FHWA concludes may be necessary to address these issues.

In addition, all agencies participate in the semi-annual Unified Agenda, which provides a summary description of the rulemaking actions that each agency is considering or reviewing. Agencies' agendas are posted on the public website of the Office of Information and Regulatory Affairs, and portions are published in the Federal Register in the spring and fall of each year. The Unified Agenda is often used as a tool to solicit interest and participation from stakeholders. Withdrawal of this NPRM will allow FHWA to better align its entries on the Department's Unified Agenda with the agency's needs, priorities, and objectives.

Accordingly, for these independently sufficient reasons, FHWA is withdrawing the NPRM associated with RIN 2125-AG07 and terminating this rulemaking. By terminating this rulemaking, FHWA is indicating that it no longer considers this NPRM to be pending. Should the FHWA decide at a future date to initiate the same or similar rulemaking, FHWA will initiate a new rulemaking under a new RIN, consistent with the requirements of the Administrative Procedure Act, 5 U.S.C. 553.

Gloria M. Shepherd,
Executive Director, Federal Highway Administration.

[FR Doc. 2025-09726 Filed 5-27-25; 4:15 pm]

BILLING CODE 4910-22-P